DEPARTMENT OF ENERGY

[Number DE-PS07-02ID14268]

Manufacture, Installation, and Testing of New Environmentally Friendly Hydropower Turbine Designs

AGENCY: Idaho Operations Office, DOE.

ACTION: Notice of availability of financial assistance solicitation.

SUMMARY: The U.S. Department of Energy (DOE) Idaho Operations Office (ID) is seeking applications from hydropower site developers who are currently planning or conducting the rehabilitation of an in-place hydroelectric unit or installation of a new hydroelectric unit(s) which will have a power output of 1 MW or greater; and are willing to use environmentally friendly technologies identified by DOE. DOE will only consider sites located in U.S. (50 states) and Canada.

DATES: The issuance date of Solicitation Number DE-PS07-02ID14268 will be on March 6, 2002. The deadline for receipt of applications will be approximately on June 4, 2002.

ADDRESSES: The solicitation in its full text will be available on the Internet at the following URL address: http://e-center.doe.gov. The Industry Interactive Procurement System (IIPS) provides the medium for disseminating solicitations, receiving financial assistance applications and evaluating the applications in a paperless environment. Completed applications are required to be submitted via IIPS. An IIPS “User Guide for Contractors” can be obtained on the IIPS Homepage and then clicking on the “Help” button. Questions regarding the operation of IIPS may be e-mailed to the IIPS Help Desk at IIPS_HelpDesk@e-center.doe.gov.

FOR FURTHER INFORMATION CONTACT: Layne Isom, Contract Specialist, (208) 526-5633, isomla@id.doe.gov.

SUPPLEMENTARY INFORMATION: The expected period of performance is 2-5 years. DOE prefers projects that can quickly meet the DOE Hydropower Program goals. The amount of funding available for award is approximately $1 million for 2002, and approximately $2.5 million for each year thereafter through 2006. Federal funding support during the out years may be less or more depending upon availability of funds and the satisfactory progress on individual projects. DOE anticipates awarding one or more cooperative agreements, in accordance with DOE Financial Assistance Regulations of Title 10 of the Code of Federal Regulations, Chapter II, Subchapter H, Part 600. Applicants who are selected will cost-share up to 50% of the project total cost. The statutory authority for the program is the Federal Non-Nuclear Energy Research and Development Act of 1974 (Pub. L. 93-577). The Catalog of Federal Domestic Assistance (CFDA) Number for this program is 81.087, Renewable Energy Research and Development.

Issued in Idaho Falls on March 6, 2002.
Cheryl A. Thompson,
Procurement Services Division.

[FR Doc. 02-6035 Filed 3-12-02; 8:45 am]

BILLING CODE 6450-01-P